DEPARTMENT OF ENERGY

Federal Energy Regulatory Commission

[Docket No. IC21-22-000]

Commission Information Collection Activities (Ferc-585); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-585, (Reporting of Electric Energy Shortages and Contingency Plans Under PURPA Section 206).

DATES: Comments on the collection of information are due July 6, 2021.

ADDRESSES: You may submit copies of your comments (identified by Docket No. IC21-22-000) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

Title: FERC-585 (Reporting of Electric Energy Shortages and Contingency Plans Under PURPA ¹ Section 206).

¹ PURPA = Public Utility Regulatory Policies Act of 1979 (Pub. L. 95-617, 92 Stat. 3117), enacted 11/9/1978.

OMB Control No.: 1902-0138.

Type of Request: Three-year extension of the FERC-585 information collection requirements with no changes to the current reporting requirements.

Abstract: The Commission uses the information collected under the requirements of FERC-585 to implement the statutory provisions of Section 206 of PURPA. Section 206 of PURPA amended the Federal Power Act (FPA) by adding a new subsection (g) to section 202, under which the Commission, by rule, was to require each public utility to report to the Commission and any appropriate state regulatory authority:

² Final Rule in Docket RM92-12-000, issued on 1/13/1995.

³ Final Rule in Docket RM05-19-000, issued on 5/27/2005.

• Any anticipated shortages of electric energy or capacity which would affect the utility's capability to serve its wholesale customers; and

• a contingency plan that would outline what circumstances might give rise to such occurrences.

• In Order No. 5752, the Commission modified the reporting requirements in 18 CFR 294.101(b) to provide that, if a public utility includes in its rates schedule, provisions that during electric energy and capacity shortages:

○ It will treat firm power wholesale customers without undue discrimination or preference; and

○ it will report any modifications to its contingency plan for accommodating shortages within 15 days to the appropriate state regulatory agency and to the affected wholesale customers, then the utility need not file with the Commission an additional statement of contingency plan for accommodating such shortages.

This revision merely changed the reporting mechanism; the public utility's contingency plan would be located in its filed rate rather than in a separate document. In Order No. 6593, the Commission modified the reporting requirements in 18 CFR 294.101(e) to provide that public utilities must comply with the requirements to report shortages and anticipated shortages by submitting this information electronically using the Office of Electric Reliability's alert system at emergency@ferc.gov in lieu of submitting an original and two copies to the Secretary of the Commission. The Commission uses the information to evaluate and formulate an appropriate option for action in the event an unanticipated shortage is reported and/or materializes. Without this information, the Commission and State agencies would be unable to:

• Examine and approve or modify utility actions;

• prepare a response to anticipated disruptions in electric energy; and/or

• ensure equitable treatment of all public utility customers under the shortage situation.

The Commission implements these filing requirements in the Code of Federal Regulations (CFR) under 18 CFR part 294.101.

Type of Respondents: Public Utilities.

Estimate of Annual Burden: ⁴ The Commission estimates the annual public reporting burden for the information collection as:

⁴ “Burden” is defined as the total time, effort, or financial resources expended by persons to generate, maintain, retain, or disclose or provide information to or for a Federal agency. For further explanation of what is included in the information collection burden, refer to 5 Code of Federal Regulations 1320.3.

FERC-585—Reporting of Electric Shortages and Contingency Plans Under PURPA Section 206
| Number of respondents | Annual number of responses per respondent | Total number of responses | Average burden & cost per response ⁵ | Total annual burden hours & total annual cost | Cost per respondent ($)
| (1) | (2) | (1) * (2) = (3) | (4) | (3) * (4) = (5) | (5) ÷ (1)
Contingency Plan | 1 | 1 | 1 | 1 hrs.; $83.00 | 1 hrs.; $83.00 | $83.00
Capacity Shortage | 1 | 1 | 1 | 1 hrs.; $83.00 | 1 hrs.; $83.00 | 83.00
Total |  |  |  |  | 2 hrs.; $166.00 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁵ The estimates for cost per response are derived using the following formula: Average Burden Hours per Response * 83.00 per Hour = Average Cost per Response. This is Based upon FERC's 2020 FTE average salary plus benefits. Commission staff believes that any industry effort applied to FERC-585 would be compensated similarly to FERC's average salary.

Dated: April 30, 2021.
Kimberly D. Bose,
Secretary.

[FR Doc. 2021-09554 Filed 5-5-21; 8:45 am]

BILLING CODE 6717-01-P